DEPARTMENT OF STATE

[Public Notice 3755]

FY 2001 Funding Under the Research and Training for Eastern Europe and the Independent States of the Former Soviet Union Act of 1983 (Title VIII)

Deputy Secretary of State Richard L. Armitage approved on May 4, the recommendations of the Advisory Committee for the Study of Eastern Europe and the Independent States of the Former Soviet Union. The Title VIII program, administered by the US Department of State, seeks to build expertise on Russia, Eurasia, and Central and East Europe through support to national organizations in the US for advanced research, language and graduate training, and other activities conducted domestically and on-site. FY 2001 grant recipients are listed below.

1. American Council of Learned Societies

Grant: $475,000 (EE).

Purpose: To support dissertation and post-doctoral research fellowships; two competitions for institutional language training grants in the US covering the basic languages of Central and East Europe; individual language training fellowships; and the Junior Scholars' Training Seminar with the Woodrow Wilson Center.

Contact: Andrzej Tymowski, Executive Associate, American Council of Learned Societies, 228 East 45th Street, New York, NY 10017-3398; (212) 697-1505 (ext. 134/135), Fax (212) 949-8058; e-mail: sandra@acls.org.

2. American Councils for International Education

Grant: $390,000 ($325,000-NIS, $65,000-EE/B).

Purpose: To support on-site language training fellowships in Advanced Russian, the non-Russian NIS languages, and select Central European languages; Combined Research and Language Training fellowships, including a Special Research Initiative on Central Asia and the Caucasus for junior scholars; Research Scholar and Junior Faculty research fellowships; and Policy Research Fellowships with the National Council for Eurasian and East European Research.

Contact: Graham Hettlinger, American Councils for International Education, 1776 Massachusetts Avenue, NW., Suite 700, Washington, DC 20036; (202) 833-7522; Fax (202) 833-7523; e-mail: Hettlinger@actr.org.

3. The William Davidson Institute of the University of Michigan Business School

Grant: $60,000 (EE).

Purpose: To support post-doctoral research fellowships on the linkages between business development and public policy in the Balkans.

Contact: Deborah Jahn, Administrative Director, The William Davidson Institute, University of Michigan Business School, 724 East University Avenue, Ann Arbor, MI 48109-1234; (734) 615-4562; Fax (734) 763-5850; e-mail: djahn@umich.edu.

4. University of Illinois at Urbana-Champaign

Grant: $125,000 ($95,000-NIS; $30,000-EE/B).

Purpose: To support the Summer Research Laboratory, which provides dormitory housing and access to the University's library for advanced research, and the Slavic Reference Service, which locates materials unavailable through regular interlibrary loan.

Contact: Dianne Merridith, Program Administrator, Russian and East European Center, University of Illinois at Urbana-Champaign, 104 International Studies Building, 910 South Fifth Street, Champaign, IL 61820; (217) 333-1244; Fax (217) 333-1582; e-mail: reec@uiuc.edu.

5. Institute of International Education

Grant: $42,000 (EE).

Purpose: To support Professional Development Fellowships for young professionals in fields related to public service and civil policy in the Balkans.

Contact: Scott Pentzer, Program Manager, US Student Programs, Institute of International Education, 809 United Nations Plaza, New York, NY 10017-3580; (212) 984-5326; Fax (212) 984-5325; e-mail: spentzer@iie.org.

6. International Research and Exchanges Board

Grant: $605,000 ($340,000-NIS; $265,000-EE/B).

Purpose: To support Individual Advanced Research Opportunities at the pre- and post-doctoral levels for on-site research; Short-term Travel Grants for senior scholars; a Regional Policy Symposium on the Caspian Sea with the Woodrow Wilson Center; dissemination activities; and Policy Forums.

Contact: Joyce Warner, Director, Academic Exchanges and Research Division, International Research and Exchanges Board, 1616 H Street, NW., Washington, DC 20006; (202) 628-8188; Fax (202) 628-8189; e-mail: jwarner@irex.org.

7. National Council for Eurasian and East European Research

Grant: $1,115,000 ($840,000-NIS; $275,000-EE/B).

Purpose: To support the post-doctoral National Research Program of research contracts for collaborative projects and fellowship grants for individuals; Policy Research Fellowships in the NIS and Central and East Europe with the American Councils on International Education; and the Ed. A. Hewett Fellowship Program to allow a scholar to work on a research project for a year while serving in a USG agency.

Contact: Robert Huber, President, National Council for Eurasian and East European Research, 910 17th Street, NW., Suite 300, Washington, DC 20006; (202) 822-6950; Fax (202) 822-6955; e-mail: nceeerdc@aol.com.

8. Social Science Research Council

Grant: $700,000 ($670,000-NIS, $30,000-EE/B).

Purpose: To support pre-doctoral fellowships, including advanced graduate and dissertation; post-doctoral fellowships; a dissertation workshop on understudied regions; and a competition for grants to US institutions that offer intensive US-based training in the languages of the NIS.

Contact: Seteney Shami, Program Director, Social Science Research Council, 810 7th Avenue, 31st Floor, New York, NY 10019; (212) 377-2700; Fax (212) 377-2727; e-mail: shami@ssrc.org.

9. The Woodrow Wilson Center for International Scholars

Grant: $680,000 ($430,000-NIS; $250,000-EE/B).

Purpose: To support the residential programs for Research Scholars, Short-term Scholars, and interns; Meetings; and Outreach and Publications of the Kennan Institute for Advanced Russian Studies and East European Studies of the European Program, including the Kennan's Workshop Series on Multi-cultural Legacies in Russia, Ukraine, and Belarus, and the East European Program's Junior Scholars' Training Seminar with the American Council of Learned Societies.

Contact: Nancy Popson, Deputy Director, Kennan Institute, (202) 691-4100; Fax (202) 691-4247; e-mail: popsonna@wwic.si.edu or Martin Sletzinger, Director, East European Studies, The Wilson Center, 1300 Pennsylvania Avenue, NW., Washington, DC 20004-3027; (202) 691-4263; Fax (202) 691-4247; e-mail: crisena@wwic.si.edu.

Dated: August 14, 2001.
Susan H. Nelson,
Program Officer, Program for the Study of Eastern Europe and the Independent States of the Former Soviet Union, U.S. Department of State.

[FR Doc. 01-21587 Filed 8-24-01; 8:45 am]

BILLING CODE 4710-32-P